DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Request for Approval of Foreign Government Employment of Air Force Members; OMB Number 0701-0134.

Type of Request: Extension.

Number of Respondents: 144.

Responses per Respondent: 1.

Annual Responses: 144.

Average Burden per Response: 1 hour.

Annual Burden Hours: 144.

Needs and Uses: The purpose of this information collection is to obtain the information needed by the Secretary of the Air Force and the Secretary of State on which to base a decision to approve/disapprove a request to work for a foreign government. This approval is specified by 37 U.S.C., section 908. Respondents are Air Force retired members and certain Reserve members who have gained jobs with a foreign government and who must obtain approval from the Secretary of the Air Force and the Secretary of State. Information, in the form of a letter, includes a detailed description of duty, name of employer, Social Security Number, and statements specifying whether or not the employee will be compensated; declaring if employee will be required or plans to obtain foreign citizenship; declaring that the member will not be required to execute an oath of allegiance to the foreign government; verifying that the member understands that retired pay equivalent to the amount received from the foreign government may be withheld if the member accepts employment with a foreign government before receiving approval. Reserve members must include a request to Inactive Status List Reserve Section (Reserve Section Code RB).

Affected Public: Individuals or Households; Business or Other For-Profit.

Frequency On Occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: May 16, 2001.
Patricia L. Toppings,
Alternate OSD Federal Register Liaison Officer, Department of Defense.

[FR Doc. 01-12828 Filed 5-21-01; 8:45 am]

BILLING CODE 5001-08-M